ENVIRONMENTAL PROTECTION AGENCY

[FRL-7878-1]

Inventory of U.S. Greenhouse Gas Emissions and Sinks: 1990-2003

AGENCY: Environmental Protection Agency (EPA).

ACTION: Notice of document availability and request for comments.

SUMMARY: The Draft Inventory of U.S. Greenhouse Gas Emissions and Sinks: 1990-2003 is available for public review. Annual U.S. emissions for the period of time from 1990-2003 are summarized and presented by source category and sector. The inventory contains estimates of carbon dioxide (CO2), methane (CH4), nitrous oxide (N2O), Hydrofluorocarbons (HFC), perflourocarbons (PFC), and sulfur hexaflouride (SF6) emissions. The inventory also includes estimates of carbon sequestration in U.S. forests. The technical approach used in this report to estimate emissions and sinks for greenhouse gases is consistent with the methodologies recommended by the Intergovernmental Panel on Climate Change (IPCC) and reported in a format consistent with the United Nations Framework Convention on Climate Change (UNFCCC) reporting guidelines. The Inventory of U.S. Greenhouse Gas Emissions and Sinks is the latest in a series of annual U.S. submissions to the Secretariat of the UNFCCC.

DATES: To ensure your comments are considered for the final version of the document, please submit your comments on or before March 30, 2005. However, comments received after that date will still be welcomed and be considered for the next edition of this report.

ADDRESSES: Comments should be submitted to Mr. Leif Hockstad at: Environmental Protection Agency, Clean Air Markets Division (6207J), 1200 Pennsylvania Ave., NW., Washington, DC 20460, Fax: (202) 343-2358. You are welcome and encouraged to send an email with your comments to hockstad.leif@epa.gov.

FOR FURTHER INFORMATION CONTACT: Mr. Leif Hockstad, Environmental Protection Agency, Office of Air and Radiation, Office of Atmospheric Programs, Climate Change Division, (202) 343-9432, hockstad.leif@epa.gov.

SUPPLEMENTARY INFORMATION: The draft report can be obtained by visiting the U.S. EPA's global warming site at http://www.epa.gov/globalwarming/publications/emissions/.

Dated: February 18, 2005.
Jeff Holmstead,
Assistant Administrator, Office of Air and Radiation.

[FR Doc. 05-3794 Filed 2-25-05; 8:45 am]

BILLING CODE 6560-50-P